DEPARTMENT OF ENERGY

Proposed Agency Information Collection

AGENCY: Department of Energy.

ACTION: Notice and request for OMB review and comment.

SUMMARY: The Department of Energy (DOE) has submitted the following information collection request (ICR), utilizing emergency review procedures, to the Office of Management and Budget (OMB) for review and clearance in accordance with the Paperwork Reduction Act of 1995. DOE invites public comment on the subject proposal: (a) Whether the proposed collection of information is necessary for the proper development of the study, including whether the information shall have practical utility; (b) ways to enhance the quality, utility, and clarity of the information to be collected; and (c) ways to minimize the burden of the collection of information on respondents, including through additional use of information technology.

DATES: Comments regarding this collection must be received on or before August 16, 2010. If you anticipate that you will be submitting comments, but find it difficult to do so within the period of time allowed by this notice, please advise the DOE Desk Officer at OMB of your intention to make a submission as soon as possible. The Desk Officer may be telephoned at 202-395-4650.

ADDRESSES: Written comments should be sent to:

DOE Desk Officer, Office of Information and Regulatory Affairs, Office of Management and Budget, New Executive Office Building, Room 10102, 735 17th Street, NW., Washington, DC 20503.

And to

Peter Whitman, Office of Policy and International Affairs, PI-42, Department of Energy, 1000 Independence Ave., SW., Washington DC 20585, 202-586-1010, fax 202-586-5391, peter.whitman@hq.doe.gov.

FOR FURTHER INFORMATION CONTACT: Peter Whitman, 202-586-1010, peter.whitman@hq.doe.gov. The collection instrument may be found at http://www.pi.energy.gov.

SUPPLEMENTARY INFORMATION: This information collection request contains: (1) OMB No. New; (2) Information Collection Request Title: RFS2 Small Refinery Survey 2010; (3) Type of Request: New collection; (4) Purpose: The Department of Energy is preparing a study to determine if small refiners would suffer “disproportionate economic hardship” through compliance with the Renewable Fuel Standard (RFS). This optional survey allows respondents to submit data that will provide technical support for a determination of disproportionate economic hardship. Upon such a determination from DOE, EPA may extend the exemption from compliance with the RFS program for at least two years. (5) Number of Respondents: 50, this is a one-time collection; (6) Estimated Number of Total Responses: 50; (7) Estimated Number of Burden Hours: 15; (8) Estimated Reporting and Recordkeeping Cost Burden: None.

Statutory Authority: Section 211(o)(9)(A)(ii) of the Clean Air Act, as amended by the Energy Policy Act of 2005 (EPACT 2005), requires that DOE conduct a study for the Administrator of the Environmental Protection Agency (EPA) assessing whether the renewable fuel standard (RFS) would impose a “disproportionate economic hardship” on small refineries. This survey will provide technical information to support the study.

Issued in Washington, DC on July 8, 2010.
Carmen Difiglio,
Deputy Assistant Secretary for Policy Analysis, Office of Policy and International Affairs.

[FR Doc. 2010-17288 Filed 7-14-10; 8:45 am]

BILLING CODE 6450-01-P